DEPARTMENT OF HOUSING AND URBAN DEVELOPMENT

[Docket No. FR-7009-N-04]

A75-HUD Central Accounting and Program System (HUDCAPS) Privacy Act of 1974; System of Records

AGENCY: Department of Housing and Urban Development.

ACTION: Notice of a modified system of records.

SUMMARY: A75 HUDCAPS is an Office of the Chief Financial Officer (OCFO) system that serves as a sub-ledger financial system for HUD. As of October 1, 2015, HUDCAPS is no longer HUD's core financial system/system of record due to the implementation of New Core Project Phase 1 Release 3. HUDCAPS is now a sub-ledger financial system for HUD and the Department of Treasury, Administrative Resource Center (ARC) Oracle Federal Financials serves as HUD's system of record and core financial system.

DATES: April 13, 2018.

ADDRESSES: You may submit comments, identified by docket number and title, by one of the following methods:

Email: privacy@hud.gov.

Mail: John Bravacos, Senior Agency Official for Privacy, Privacy Office, Department of Housing and Urban Development, Washington, DC 20410.

FOR FURTHER INFORMATION CONTACT: For general questions please contact: The Privacy Office, 451 Seventh Street SW, Room 10139, Washington, DC 20410, telephone number 202-708-3054. Individuals who are hearing- or speech-impaired may access this number via TTY by calling the Federal Relay Service at 800-877-8339 (this is a toll-free number).

SUPPLEMENTARY INFORMATION: This notice of revision of the System of Records Notice for A75 HUDCAPS reflects the change of HUDCAPS from a core financial system to a sub-ledger financial system for HUD. The Department of Treasury, Administrative Resource Center (ARC) Oracle Federal Financials now serves as HUD's system of record and core financial system.

The following transactions remain in HUDCAPS:

• Public and Indian Housing (PIH) Section 8 programmatic transaction, including payments of PIH Section 8 programmatic invoices.

• Program Accounting System (PAS) will continue to transmit current transactional activity to HUDCAPS for posting to the HUDCAPS sub ledger, which is transmitted through NCIS to the Oracle Federal Financials G/L.

• HUD legacy subsidiary systems such as Line of Credit Control System (LOCCS), Northridge Loan System (NLS), Program Accounting System (PAS), and others continue to support program fund transactions related to grant and loan activities and continue to interface nightly with HUDCAPS.

The following routine uses have been removed from the HUDCAPS SORN completed in 2014 because HUDCAPS is no longer HUD's core financial system/system of record. HUDCAPS is now a sub-ledger financial system for HUD, and the Department of Treasury, Administrative Resource Center (ARC) Oracle Federal Financials serves as HUD's system of record and core financial system.

• The Internal Revenue Service (IRS)—for reporting payments for goods and services and for reporting of discharge indebtedness;

• The General Service Administration's Federal Procurement Data System, a central repository for statistical information on Government contracting, for purposes of providing public access to Government-wide data about agency contract actions;

• The consumer reporting agencies: Disclosure pursuant to 5 U.S.C. 552a(b)(12). Disclosures may be made from the system to consumer reporting agencies as defined in the Fair Credit Reporting Act (15 U.S.C. 1681a(f) or the Federal Claims Collection Act of 1966, 31 U.S.C. 3701(a)(3)). The disclosure is limited to information necessary to establish the identity of the individual, including name, social security number, and address; the amount, status, and history of the claim, and the agency or program under which the claim arose for the sole purpose of allowing the consumer reporting agency to prepare a credit report.

SYSTEM NAME AND NUMBER

HUD Central Accounting and Program System (HUDCAPS, A75).

SECURITY CLASSIFICATION:

Unclassified.

SYSTEM LOCATION:

HUD Headquarters, 451 7th Street SW, Washington, DC 20410 and NCCIPS, Stennis Space Center, MS 29529. The backup data center is at Mid-Atlantic Data Center in Clarksville, VA 23927.

SYSTEM MANAGER(S):

Assistant Chief Financial Officer for Systems, Office of the Chief Financial Officer, Department of Housing and Urban Development, 451 Seventh Street SW, Room 3100, Washington, DC 20410.

AUTHORITY FOR MAINTENANCE OF THE SYSTEM:

Sec. 113 of the Budget and Accounting Act of 1950, 31 U.S.C. 66a. (Pub. L. 81-784); The Chief Financial Officers Act of 1990; Executive Order 9397, as amended by Executive Order 13478; The Housing and Community Development Act of 1987, 42 U.S.C. 3543.

PURPOSE(S) OF THE SYSTEM:

A75 HUDCAPS is an Office of the Chief Financial Officer (OCFO) system that serves as a sub-ledger financial system for HUD. The sub-ledger contains Public and Indian Housing (PIH) Section 8 programmatic transaction, including payments of PIH Section 8 programmatic invoices, and HUD legacy subsidiary systems such as LOCCS, NLS, PAS, and others, which will continue to support program fund transactions related to grant and loan activities and continue to interface nightly with HUDCAPS.

CATEGORIES OF INDIVIDUALS COVERED BY THE SYSTEM:

Grant, subsidy, project, and loan recipients; HUD personnel; vendors; brokers; bidders; managers; individuals within Disaster Assistance Programs: builders, developers, contractors, and appraisers.

CATEGORIES OF RECORDS IN THE SYSTEM:

The system contains the following employee/vendor information: Vendor/employee name, Vendor Number (EIN—Employer Identification Number, SSN—Social Security Number, and/or TIN—Tax Identification Number), address, Data Universal Numbering System (DUNS), Banking Account/Routing numbers, and financial data.

Note: Vendor and social security numbers are no longer being entered in HUDCAPS, with the exception of programs handled by the PIH Financial Management Center (FMC).

For historical purposes, HUDCAPS stores vendor records for previous travel records, which includes social security numbers, bank account numbers, and routing numbers.

RECORD SOURCE CATEGORIES:

These records contain information obtained from the individual who is the subject of the records, HUD personnel, financial institutions, private corporations or business partners, and Federal agencies.

ROUTINE USES OF RECORDS MAINTAINED IN THE SYSTEM, INCLUDING CATEGORIES OF USERS AND PURPOSES OF SUCH USES:

1. To the U.S. Treasury—for transactions such as disbursements of funds and related adjustments;

2. To other Federal Agencies—for the purpose of debt collection to comply with statutory reporting requirements;

3. To HUD contractors when necessary to perform a function or service related to this system of records. Such recipients are required to comply with the Privacy Act of 1974, as amended U.S.C. 552a.

In addition to the routine uses described above and the disclosures generally permitted under 5 U.S.C. § 552a(b) of the Privacy Act, additional discretionary disclosures that may be applicable to this system of records notice can be found in the Department's Privacy website under Appendix 1: HUD's Routine use Inventory Notice, 80 FR 81837 (December 31, 2015).

POLICIES AND PRACTICES FOR STORAGE OF RECORDS:

Electronic files are stored on electronic media. There are no paper records that are maintained for this system.

POLICIES AND PRACTICES FOR RETRIEVAL OF RECORDS:

Records are retrieved by name, social security number, schedule number, receipt number, voucher number, and contract number.

POLICIES AND PRACTICES FOR RETENTION AND DISPOSAL OF RECORDS:

Retention and disposal is in accordance with Records Disposition Schedule 21, HUD Handbook 2225.6. Records are destroyed or deleted when no longer necessary for agency business in accord with applicable federal standards or in no less than seven years after last action in accord with limitations on civil actions by or against the U.S. Government (28 U.S.C. 2401 and 2415). Data records are purged or deleted from the system when eligible to be destroyed using one of the methods described by the NIST SP 800-88 Rev 1 “Guidelines for Media Sanitization” (December 17, 2014).

ADMINISTRATIVE, TECHNICAL, AND PHYSICAL SAFEGUARDS:

All HUD employees have undergone background investigations. HUD buildings are guarded and monitored by security personnel, cameras, ID checks, and other physical security measures. Access is restricted to authorized personnel or contractors whose responsibilities require access. System users must take the mandatory security awareness training annually as mandated by the Federal Information Security Management Act (FISMA). Users must also sign a Rules of Behavior form certifying that they agree to comply with the requirements before they are granted access to the system.

RECORD ACCESS PROCEDURES:

For information, assistance, or inquiry about records, contact John Bravacos, Senior Agency Official for Privacy, 451 Seventh Street SW, Room 10139, Washington, DC 20410, telephone number (202) 708-3054. When seeking records about yourself from this system of records or any other Housing and Urban Development (HUD) system of records, your request must conform with the Privacy Act regulations set forth in 24 CFR part 16. You must first verify your identity, meaning that you must provide your full name, address, and date and place of birth.

You must sign your request, and your signature must either be notarized or submitted under 28 U.S.C. 1746, a law that permits statements to be made under penalty of perjury as a substitute for notarization. In addition, your request should:

a. Explain why you believe HUD would have information on you.

b. Identify which Office of HUD you believe has the records about you.

c. Specify when you believe the records would have been created.

d. Provide any other information that will help the Freedom of Information Act (FOIA), staff determine which HUD office may have responsive records.

If your request is seeking records pertaining to another living individual, you must include a statement from that individual certifying their agreement for you to access their records. Without the above information, the HUD FOIA Office may not conduct an effective search, and your request may be denied due to lack of specificity or lack of compliance with regulations.

CONTESTING RECORD PROCEDURES:

The Department's rules for contesting contents of records and appealing initial denials appear in 24 CFR part 16, Procedures for Inquiries. Additional assistance may be obtained by contacting John Bravacos, Senior Agency Official for Privacy, 451 Seventh Street SW, Room 10139, Washington, DC 20410, or the HUD Departmental Privacy Appeals Officers, Office of General Counsel, Department of Housing and Urban Development, 451 Seventh Street SW, Washington, DC 20410.

NOTIFICATION PROCEDURES:

Individuals seeking notification of and access to any record contained in this system of records, or seeking to contest its content, may submit a request in writing to HUD's Privacy Office at the addresses provided above or the component's FOIA Officer, whose contact information can be found at http://www.hud.gov/foia.

EXEMPTIONS PROMULGATED FOR THE SYSTEM:

None.

HISTORY:

Docket No. FR-5763-N-03.

Dated: February 16, 2018.
John Bravacos,
Senior Agency Official for Privacy.

[FR Doc. 2018-05070 Filed 3-13-18; 8:45 am]

BILLING CODE 4210-67-P